DEPARTMENT OF ENERGY

Federal Energy Regulatory Commission

Combined Notice of Filings #1

Take notice that the Commission received the following electric rate filings:

Docket Numbers: ER10-2606-014; ER17-815-003; ER17-816-003.

Applicants: Consolidated Water Power Company, Verso Luke LLC, Verso Escanaba LLC.

Description: Supplement to June 24, 2021 Triennial Market Power Analysis for Central Region of Consolidated Water Power Company, et al.

Filed Date: 12/9/21.

Accession Number: 20211209-5212.

Comment Date: 5 p.m. ET 12/30/21.

Docket Numbers: ER14-1818-024.

Applicants: Boston Energy Trading and Marketing LLC.

Description: Triennial Market Power Analysis for Southwest Power Pool Inc. Region of Boston Energy Trading and Marketing LLC.

Filed Date: 12/14/21.

Accession Number: 20211214-5270.

Comment Date: 5 p.m. ET 2/14/22.

Docket Numbers: ER21-673-004.

Applicants: PA Solar Park II, LLC,

Description: Compliance filing: Reactive Power Compliance Filing to be effective 12/18/2020.

Filed Date: 12/14/21.

Accession Number: 20211214-5226.

Comment Date: 5 p.m. ET 1/4/22.

Docket Numbers: ER21-2819-002.

Applicants: South Field Energy LLC.

Description: Compliance filing: Reactive Service Rate Schedule Compliance Filing to be effective 10/5/2021.

Filed Date: 12/15/21.

Accession Number: 20211215-5084.

Comment Date: 5 p.m. ET 1/5/22.

Docket Numbers: ER22-645-000.

Applicants: Ormat Dixie Valley LLC.

Description: § 205(d) Rate Filing: Notice of Succession and Revisions to Market-Based Rate Tariff to be effective 12/15/2021.

Filed Date: 12/14/21.

Accession Number: 20211214-5228.

Comment Date: 5 p.m. ET 1/4/22.

Docket Numbers: ER22-647-000.

Applicants: Midcontinent Independent System Operator, Inc., Ameren Illinois Company.

Description: § 205(d) Rate Filing: Midcontinent Independent System Operator, Inc. submits tariff filing per 35.13(a)(2)(iii: 2021-12-15_SA 3299 Att A_Ameren IL-Norris Electric-Hidalgo Tap Proj. No. 5 to be effective 2/14/2022.

Filed Date: 12/15/21.

Accession Number: 20211215-5038.

Comment Date:5 p.m. ET 1/5/22.

Docket Numbers: ER22-648-000.

Applicants:Tri-State Generation and Transmission Association, Inc.

Description: § 205(d) Rate Filing: Amendment to Rate Schedule FERC No. 259 to be effective 12/16/2021.

Filed Date: 12/15/21.

Accession Number: 20211215-5056.

Comment Date: 5 p.m. ET 1/5/22.

Docket Numbers: ER22-649-000.

Applicants: PJM Interconnection, L.L.C.

Description: § 205(d) Rate Filing: Original ISA, Service Agreement No. 6241 to be effective 11/15/2021.

Filed Date: 12/15/21.

Accession Number:20211215-5069.

Comment Date: 5 p.m. ET 1/5/22.

Docket Numbers: ER22-650-000.

Applicants: Horizon West Transmission, LLC.

Description: § 205(d) Rate Filing: HWT Revisions to TO Tariff Appendix I TRBAA Annual Update to be effective 1/1/2022.

Filed Date: 12/15/21.

Accession Number: 20211215-5087.

Comment Date:5 p.m. ET 1/5/22.

Docket Numbers: ER22-651-000.

Applicants:Southwest Power Pool, Inc.

Description: § 205(d) Rate Filing: Emergency Energy Transactions Agreement between SPP and PSCo to be effective 2/14/2022.

Filed Date: 12/15/21.

Accession Number: 20211215-5090.

Comment Date: 5 p.m. ET 1/5/22.

Docket Numbers: ER22-652-000.

Applicants: Western Spirit Transmission LLC.

Description:Tariff Amendment: Notice of Cancellation of Facilities Use Agreement to be effective 12/16/2021.

Filed Date: 12/15/21.

Accession Number: 20211215-5095.

Comment Date: 5 p.m. ET 1/5/22.

Docket Numbers: ER22-653-000.

Applicants: Midcontinent Independent System Operator, Inc.

Description: § 205(d) Rate Filing: 2021-12-15_SA 3084 St. Joseph Phase II-NIPSCO GIA 2nd Rev (J351) to be effective 12/3/2021.

Filed Date: 12/15/21.

Accession Number: 20211215-5097.

Comment Date: 5 p.m. ET 1/5/22.

Docket Numbers: ER22-654-000.

Applicants: Massachusetts Electric Company.

Description: § 205(d) Rate Filing: 2021 Rate Update Filing for Massachusetts Electric Borderline Sales Agreement to be effective 1/1/2021.

Filed Date: 12/15/21.

Accession Number: 20211215-5105.

Comment Date: 5 p.m. ET 1/5/22.

Docket Numbers: ER22-655-000.

Applicants: Alabama Power Company.

Description: Tariff Amendment: Cane Creek Solar LGIA Termination Filing to be effective 12/15/2021.

Filed Date: 12/15/21.

Accession Number: 20211215-5112.

Comment Date: 5 p.m. ET 1/5/22.

Docket Numbers: ER22-656-000.

Applicants: Alabama Power Company.

Description: Tariff Amendment: Moonshot Solar LGIA Termination Filing to be effective 12/15/2021.

Filed Date: 12/15/21.

Accession Number: 20211215-5113.

Comment Date: 5 p.m. ET 1/5/22.

Docket Numbers: ER22-657-000.

Applicants: PJM Interconnection, L.L.C.

Description: § 205(d) Rate Filing: Original ISA, Service Agreement No. 6248; Queue No. AE2-206 to be effective 11/15/2021.

Filed Date: 12/15/21.

Accession Number: 20211215-5208.

Comment Date: 5 p.m. ET 1/5/22.

Docket Numbers: ER22-658-000.

Applicants: PJM Interconnection, L.L.C.

Description: § 205(d) Rate Filing: Original ISA No. 6237; Queue No. AE2-290 to be effective 11/15/2021.

Filed Date: 12/15/21.

Accession Number: 20211215-5217.

Comment Date: 5 p.m. ET 1/5/22.

Docket Numbers:ER22-659-000.

Applicants:Pacific Gas and Electric Company.

Description: § 205(d) Rate Filing: Transmission Access Charge Balancing Account Adjustment (TACBAA) 2022 to be effective 3/1/2022.

Filed Date: 12/15/21.

Accession Number: 20211215-5228.

Comment Date: 5 p.m. ET 1/5/22.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 15, 2021.
Debbie-Anne A. Reese,
Deputy Secretary.

[FR Doc. 2021-27673 Filed 12-21-21; 8:45 am]

BILLING CODE 6717-01-P